DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of January 25, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Washington County, Arkansas and Incorporated Areas Docket No.: B-2131
City of Elkins | City Hall, 1874 Stokenbury Road, Elkins, AR 72727.
City of Elm Springs | City Hall, 289 Jayroe Avenue, Elm Springs, AR 72728.
City of Farmington | City Hall, 354 West Main Street, Farmington, AR 72730.
City of Fayetteville | Development Services Building, 125 West Mountain Street, Fayetteville, AR 72701.
City of Goshen | City Hall, 124 Church Street, Goshen, AR 72735.
City of Greenland | City Hall, 8 East Ross Street, Greenland, AR 72701.
City of Johnson | City Hall, 2904 Main Drive, Johnson, AR 72704.
City of Lincoln | City Hall, 101 East Bean Street, Lincoln, AR 72744.
City of Prairie Grove | City Hall, 975 East Douglas Street, Prairie Grove, AR 72753.
City of Springdale | City Hall, 201 Spring Street, Springdale, AR 72764.
City of Tontitown | City Hall, 235 East Henri De Tonti Boulevard, Tontitown, AR 72762.
City of West Fork | City Hall, 164 North Centennial Avenue, West Fork, AR 72774.
City of Winslow | City Hall, 108 North Winslow Boulevard, Winslow, AR 72959.
Unincorporated Areas of Washington County | Washington County Planning Department, 2615 South Brink Drive, Fayetteville, AR 72701.

[FR Doc. 2023-22691 Filed 10-12-23; 8:45 am]

BILLING CODE 9110-12-P